FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Reporting Requirements Associated with Regulation XX (FR XX; OMB No. 7100-0363) and the Financial Company (as defined) Report of Consolidated Liabilities (FR XX-1; OMB No. 7100-0363).

DATES: Comments must be submitted on or before October 20, 2020.

ADDRESSES: You may submit comments, identified by FR XX or FR XX-1, by any of the following methods:

• Agency website: https://www.federalreserve.gov/. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: A copy of the Paperwork Reduction Act (PRA) OMB submission, including the reporting form and instructions, supporting statement, and other documentation will be placed into OMB's public docket files, if approved. These documents will also be made available on the Board's public website at https://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report title: Reporting Requirements Associated With Regulation XX; Financial Company (As Defined) Report of Consolidated Liabilities.

Agency form number: FR XX; FR XX-1.

OMB control number: 7100-0363.

Frequency: Event-generated; annual.

Respondents: Insured depository institutions, bank holding companies, savings and loan holding companies, any other companies that control insured depository institutions, nonbank financial companies designated by the Financial Stability Oversight Council (Council) for supervision by the Board, or foreign banks or companies that are treated as a bank holding company for purposes of the Bank Holding Company Act of 1956 (BHC Act); Certain financial companies that do not otherwise report consolidated financial information to the Board or another Federal banking agency.

Estimated number of respondents: FR XX (Section 251.3(e))-1; FR XX (Sections 251.4(b) and (c))-1; FR XX-1-37.

Estimated average hours per response: FR XX (Section 251.3(e))-6; FR XX (Sections 251.4(b) and (c))-20; FR XX-1-2.

Estimated annual burden hours: FR XX (Section 251.3(e))-6; FR XX (Sections 251.4(b) and (c))-20; FR XX-1-74.

General description of report: The Board's Regulation XX—Concentration Limit (12 CFR part 251) implements section 14 of the BHC Act,¹ which establishes a financial sector concentration limit that generally prohibits a financial company from merging or consolidating with, or otherwise acquiring, another company if the resulting company's liabilities upon consummation would exceed 10 percent of the aggregate liabilities of all financial companies (a covered acquisition). Under section 14 of the BHC Act and Regulation XX, a financial company means (1) an insured depository institution, (2) a bank holding company, (3) a savings and loan holding company, (4) any other company that controls an insured depository institution, (5) a nonbank financial company designated by the Council for supervision by the Board, or (6) a foreign bank or company that is treated as a bank holding company for purposes of the BHC Act. Regulation XX includes certain reporting requirements that apply to financial companies, and the FR XX-1 collects information from certain financial companies that do not otherwise report consolidated financial information to the Board or another Federal banking agency.

¹ 12 U.S.C. 1852.

Proposed revisions: The Board proposes to revise the FR XX to account for the reporting provision located at section 251.3(e). This provision of the regulation implements the Council's recommendation to allow a financial company that does not use U.S. generally accepted accounting principles (GAAP) to use another appropriate accounting standard or method of estimation for determining compliance with section 14 of the BHC Act, while ensuring that the Board has an opportunity to review the appropriateness of the company's proposed approach.

The Board proposes to revise the due date for the FR XX-1 report. The FR XX-1 implements section 251.6(a) of Regulation XX, which requires a financial company that does not otherwise report consolidated financial information to the Board or another Federal banking agency to report to the Board its consolidated liabilities as of the previous calendar year-end. Regulation XX provides that this report must be submitted by March 31 of each year. However, the instructions to the FR XX-1 currently state that the report must be submitted 90 calendar days after the December 31 as of date or, if the submission deadline falls on a weekend or holiday, the first business day after the weekend or holiday. Under these instructions, the FR XX-1 could be due prior to March 31 (in a leap year) or after March 31 (if March 31 falls on a weekend or holiday). In order to ensure that the due date of the FR XX-1 coincides with the date set forth in Regulation XX, the Board proposes to revise the FR XX-1 so that it is due by March 31 of the year following the December 31 as of date.

Legal authorization and confidentiality: The FR XX and the FR XX-1 are authorized by section 14 of the BHC Act, which, in relevant part, expressly authorizes the Board to issue “regulations implementing this section” and “interpretations or guidance regarding the application of this section to an individual financial company or to financial companies in general” (12 U.S.C. 1852(d)). The Board also has the authority to require reports from bank holding companies (12 U.S.C. 1844(c)), savings and loan holding companies (12 U.S.C. 1467a(b) and (g)), state member banks (12 U.S.C. 248(a) and 324), and state-licensed branches and agencies of foreign banks, other than insured branches (12 U.S.C. 3105(c)(2)). The obligation to respond is mandatory.

Individual respondents may request that information submitted to the Board through the FR XX or FR XX-1 be kept confidential. If a respondent requests confidential treatment, the Board will determine whether the information is entitled to confidential treatment on a case-by-case basis. To the extent a respondent submits nonpublic commercial or financial information in connection with the FR XX or FR XX-1, which is both customarily and actually treated as private by the respondent, the respondent may request confidential treatment pursuant to exemption 4 of the Freedom of Information Act (FOIA) (5 U.S.C. 552(b)(4)). The entity should separately designate such information as “confidential commercial information” or “confidential financial information” as appropriate, and the Board will treat such designated information as confidential to the extent permitted by law, including the FOIA.

Board of Governors of the Federal Reserve System, August 17, 2020.
Michele Taylor Fennell,
Assistant Secretary of the Board.

[FR Doc. 2020-18373 Filed 8-20-20; 8:45 am]

BILLING CODE 6210-01-P